DEPARTMENT OF THE INTERIOR

National Park Service

[NPS-NER-ACAD-35050; PPNEACADSO, PPMPSPDIZ.YM0000]

Request for Nominations for the Acadia National Park Advisory Commission

AGENCY: National Park Service, Interior.

ACTION: Request for nominations.

SUMMARY: The National Park Service (NPS), U.S. Department of the Interior, is requesting nominations for qualified persons to serve as members of the Acadia National Park Advisory Commission (Commission).

DATES: Written nominations must be postmarked by March 13, 2023.

ADDRESSES: Nominations should be sent to Brandon Bies, Deputy Superintendent, Acadia National Park, P.O. Box 177, Bar Harbor, Maine 04609, or by email brandon_bies@nps.gov.

FOR FURTHER INFORMATION CONTACT: Brandon Bies, via telephone at (207) 288-8701. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Commission was established by section 103 of Public Law 99-420, as amended, (16 U.S.C. 341 note), and in accordance with the Federal Advisory Committee Act (5 U.S.C. 10). The Commission advises the Secretary of the Interior (Secretary) and the NPS on matters relating to the management and development of Acadia National Park, including but not limited to, the acquisition of lands and interests in lands (including conservation easements on islands) and the termination of rights of use and occupancy.

The Commission is composed of 16 members appointed by the Secretary, as follows: (a) three members at large; (b) three members appointed from among individuals recommended by the Governor of Maine; (c) four members appointed from among individuals recommended by each of the four towns on the island of Mount Desert; (d) three members appointed from among individuals recommended by each of the three Hancock County mainland communities of Gouldsboro, Winter Harbor, and Trenton; and (e) three members appointed from among individuals recommended by each of the three island towns of Cranberry Isles, Swans Island, and Frenchboro.

The NPS is seeking nominees to represent every category except Winter Harbor. Individuals selected to serve as the members at large will be appointed as special Government Employees (SGEs). Individuals selected from the other categories will be appointed as representative members. Please be aware that members selected to serve as SGEs will be required, prior to appointment, to file a Confidential Financial Disclosure Report in order to avoid involvement in real or apparent conflicts of interest. You may find a copy of the Confidential Financial Disclosure Report at the following website: SGEs and Financial Disclosure Reporting | U.S. Department of the Interior (doi.gov). Additionally, after appointment, members appointed as SGEs will be required to meet applicable financial disclosure and ethics training requirements. Please contact 202-208-7960 or DOI_Ethics@sol.doi.gov with any questions about the ethics requirements for members appointed as SGEs.

Nominations received by the park will be sent directly to local municipalities for their consideration. Nominations should be typed and should include a resume providing an adequate description of the nominee's qualifications, including information that would enable the Department of the Interior to make an informed decision regarding meeting the membership requirements of the Commission and permit the Department to contact a potential member. All documentation, including letters of recommendation, must be compiled and submitted in one complete package. All those interested in membership, including current members whose terms are expiring, must follow the same nomination process. Members may not appoint deputies or alternates.

Members of the Commission serve without compensation. However, while away from their homes or regular places of business in the performance of services for the Commission as approved by the NPS, members may be allowed travel expenses, including per diem in lieu of subsistence, in the same manner as persons employed intermittently in Government service are allowed such expenses under section 5703 of title 5 of the United States Code.

Authority: 5 U.S.C. 10.

Alma Ripps,
Chief, Office of Policy.

[FR Doc. 2023-02917 Filed 2-9-23; 8:45 am]

BILLING CODE 4312-52-P